DEPARTMENT OF ENERGY

Federal Energy Regulatory Commission

Combined Notice of Filings #1

Take notice that the Commission received the following electric corporate filings:

Docket Numbers: EC14-83-000.

Applicants: Nevada Power Company, Nevada Sun-Peak Limited Partnership.

Description: Clarification to May 2, 2014 Nevada Power Company and Nevada Sun-Peak Limited Partnership Section 203 Application.

Filed Date: 6/19/14.

Accession Number: 20140619-5140.

Comments Due: 5 p.m. ET 6/30/14.

Take notice that the Commission received the following exempt wholesale generator filings:

Docket Numbers: EG14-67-000.

Applicants: RE Astoria LLC.

Description: Notice of Self-Certification of Exempt Wholesale Generator Status of RE Astoria LLC.

Filed Date: 6/19/14.

Accession Number: 20140619-5115.

Comments Due: 5 p.m. ET 7/10/14.

Docket Numbers: EG14-68-000.

Applicants: RE Astoria 2 LLC.

Description: Notice of Self-Certification of Exempt Wholesale Generator Status of RE Astoria 2 LLC.

Filed Date: 6/19/14.

Accession Number: 20140619-5128

Comments Due: 5 p.m. ET 7/10/14.

Docket Numbers: EG14-69-000.

Applicants: Ector County Energy Center LLC.

Description: Notice of Self-Certification of Exempt Wholesale Generator Status of Ector County Energy Center LLC.

Filed Date: 6/20/14.

Accession Number: 20140620-5020.

Comments Due: 5 p.m. ET 7/11/14.

Take notice that the Commission received the following electric rate filings:

Docket Numbers: ER14-2087-002.

Applicants: Appalachian Power Company.

Description: OATT—CORRECTED Revise Attachment K, TCC Rate Update to be effective 12/31/9998.

Filed Date: 6/19/14.

Accession Number: 20140619-5105.

Comments Due: 5 p.m. ET 7/10/14.

Docket Numbers: ER14-2225-000.

Applicants: California Independent System Operator Corporation.

Description: 2014-06-19 GIDAP Reassessment Initiative to be effective 9/1/2014.

Filed Date: 6/19/14.

Accession Number: 20140619-5103.

Comments Due: 5 p.m. ET 7/10/14.

Docket Numbers: ER14-2226-000.

Applicants: Southwest Power Pool, Inc.

Description: 2891 AECC and Entergy Arkansas Attachment AO to be effective 6/1/2014.

Filed Date: 6/20/14.

Accession Number: 20140620-5029.

Comments Due: 5 p.m. ET 7/11/14.

Docket Numbers: ER14-2227-000.

Applicants: El Paso Electric Company.

Description: Housekeeping Updates—MBR to be effective 8/19/2014.

Filed Date: 6/20/14.

Accession Number: 20140620-5032.

Comments Due: 5 p.m. ET 7/11/14.

Docket Numbers: ER14-2228-000.

Applicants: Broad River Energy LLC.

Description: Normal Correct Format to be effective 6/21/2014.

Filed Date: 6/20/14.

Accession Number: 20140620-5033.

Comments Due: 5 p.m. ET 7/11/14.

Docket Numbers: ER14-2229-000.

Applicants: Southwest Power Pool, Inc.

Description: Notice of Cancellation of KCPL-GMA Firm Point-To-Point Transmission Service Agreement SA 1797 of Southwest Power Pool, Inc.

Filed Date: 6/20/14.

Accession Number: 20140620-5037.

Comments Due: 5 p.m. ET 7/11/14.

Docket Numbers: ER14-2230-000.

Applicants: Southwest Power Pool, Inc.

Description: Notice of Cancellation of Midwest Energy Firm Point-To-Point Transmission Service Agreement SA 1874 of Southwest Power Pool, Inc.

Filed Date: 6/20/14.

Accession Number: 20140620-5041.

Comments Due: 5 p.m. ET 7/11/14.

Docket Numbers: ER14-2231-000.

Applicants: Southwest Power Pool, Inc.

Description: Notice of Cancellation of KCPL Firm Point-To-Point Transmission Service Agreement SA 1796 of Southwest Power Pool, Inc.

Filed Date: 6/20/14.

Accession Number: 20140620-5052.

Comments Due: 5 p.m. ET 7/11/14.

Take notice that the Commission received the following electric securities filings:

Docket Numbers: ES14-43-000.

Applicants: Indianapolis Power & Light Company.

Description: Amendment to June 5, 2014 Application of Indianapolis Power & Light Company under FPA Section 204 for an Order Authorizing the Issuance of Short-Term Debt Instruments.

Filed Date: 6/19/14.

Accession Number: 20140619-5125.

Comments Due: 5 p.m. ET 6/30/14.

Take notice that the Commission received the following foreign utility company status filings:

Docket Numbers: FC14-15-000.

Applicants: East Durham Wind, LP.

Description: Notification of Self-Certification of Foreign Utility Company Status of East Durham Wind, LP.

Filed Date: 6/19/14.

Accession Number: 20140619-5101.

Comments Due: 5 p.m. ET 7/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2014.
Nathaniel J. Davis, Sr.,
Deputy Secretary.

[FR Doc. 2014-15182 Filed 6-27-14; 8:45 am]

BILLING CODE 6717-01-P